DEPARTMENT OF TRANSPORTATION

Federal Highway Administration

Federal Transit Administration

Environmental Impact Statement: Salt Lake Utah Counties, Utah

AGENCY: Federal Highway Administration (FHWA), DOT., Federal Transit Administration (FTA), DOT.

ACTION: Notice of intent.

SUMMARY: The FHWA and FTA are issuing this notice to advise the public that an Environmental Impact Statement (EIS) will be prepared for a proposed transportation improvement project in Salt Lake and Utah Counties, Utah.

FOR FURTHER INFORMATION CONTACT: Carlos C. Machado, Program Manager, Federal Highway Administration, 2520 West 4700 South, Suite 9A, Salt Lake City, UT 84118, Telephone: (801) 963-0182, E-mail: carlos.machado@fhwa.dot.gov or Donald D. Cover, Project Manager, Federal Transit Administration, 216 16th St., Suite 650, Denver, CO 80202-5120, Telephone (303) 844-3242, E-mail: don.cover@fta.dot.gov.

SUPPLEMENTARY INFORMATION: The FHWA and FTA, in cooperation with the Utah Department of Transportation (UDOT), the Utah Transit Authority (UTA), the Mountainland Association of Governments (MAG), and the Wasatch Front Regional Council (WFRC), will prepare an EIS on a proposal to address projected transportation demand in the western Salt Lake Valley south of I-80 and the western Utah Lake Valley north of Utah Lake. Although the exact limits of the study area have not been defined the transportation needs that will be evaluated in the proposal extend northward from the northern shore of Utah Lake in Utah County to Interstate 80 in Salt Lake County. The eastern limits of the study area extend to Bangerter Highway north of 13400 South in Salt Lake County and I-15 from 13400 South down into Utah County. The western limit of the study area in Salt Lake and Utah counties is the Oquirrh foothills.

To provide for local and regional travel demands, the long-range transportation plans developed by the local Metropolitan Planning Organizations, WFRC and MAG, have identified the need for an improved transportation system in the study area. The proposed corridor is approximately 35 miles long. Alternatives under consideration include (1) taking no-action (no-build); (2) transportation system management; and (3) build alternatives. A multi-modal evaluation of transportation improvements in the corridor will be the focus of the study. Transportation build alternatives to be studied include, but are not limited to: (1) Collector roadway; (2) freeway; (3) arterial roadway; (4) transit; (5) combinations of any of the above; and (6) other feasible alternatives identified during the scoping process.

Letters describing the proposed action and soliciting comments will be sent to appropriate federal, state, and local agencies, and to private organizations and citizens who have previously expressed or are known to have interest in this proposal. A series of public scoping meetings will be held in the project study area from 5:30 p.m. to 9 p.m. as follows: Wednesday, May 21, 2003, Eagle Crest Elementary School, 2760 North 300 West Lehi, UT; Wednesday, May 28, 2003, South Hills Middle School Cafeteria, 13508 South 4000 West, Riverton, UT; Thursday, May 29, 2003, West Jordan High School Commons Area, 8136 South 2700 West, West Jordan, UT; Wednesday, June 4, 2003, Granger High School Cafeteria, 3690 South West, West Valley City, UT; and Thursday, June 5, 2003, Pleasant Grove Jr. High Cafeteria 810 North 100 East Pleasant Grove, UT. Public notices announcing these meetings will be published in the region. Information regarding this meeting and the project may also be obtained through a public Web site, www.udot.utah.gov/mountainview. In addition to the public scoping meetings, public hearings will be held after the draft EIS has been prepared. The draft EIS will be available for public and agency review and comment before the public hearing.

To ensure that full ranges of issues related to the proposed action are addressed and all significant issues identified, comments and suggestions are invited from all interested parties. Comments or questions concerning the proposed action and the EIS should be directed to the FHWA or FTA at the addresses provided above.

(Catalog of Federal and Domestic Assistance Program Number 20.205, Highway Research, Planning and Construction. The regulations implementing Executive Order 12372 regarding intergovernmental consultation on federal programs and activities apply to this program.)
Issued on: April 23, 2003.
David C. Gibbs,
Division Administrator, Federal Highway Administration, Salt Lake City, Utah.
Lee O. Waddleton,
Regional Administrator, Federal Transit Administration, Denver, Colorado.

[FR Doc. 03-10845 Filed 5-1-03; 8:45 am]

BILLING CODE 4910-22-M